DEPARTMENT OF THE INTERIOR

Bureau of Land Management

[OR-030-01-1020-PE: GP1-010138]

Notice of meeting of John Day/Snake Resource Advisory Council

AGENCY: Vale District, Bureau of Land Management, Interior.

ACTION: Meeting of John Day/Snake Resource Advisory Council (RAC): La Grande, Oregon May 8-9, 2001.

SUMMARY: On May 8, 2001 at 11:00 a.m. there will be a meeting of the John Day/Snake RAC at Mr. Sandman Motel, 2410 E. R Avenue, La Grande, Oregon. The meeting is open to the public. Public comments will be received at 1:00 p.m. on May 8, 2001. The following topics will be discussed by the council: Program of work review; Charter review; Counties Payment Act (1608 Act); Hells Canyon Subgroup update; RAC membership update; Blue Mountain Subgroup update; ICBEMP Subgroup update; OHV Subgroup update; Noxious Weeds Subgroup update; Field trip to Blue Mountain Demo Area; A 15 minute round table for general issues.

FOR FURTHER INFORMATION CONTACT: Roy L. Masinton, Bureau of Land Management, Vale District Office, 100 Oregon Street, Vale, Oregon 97918, Telephone (541) 473-3144

Roy L. Masinton,
Acting District Manager.

[FR Doc. 01-7600 Filed 3-27-01; 8:45 am]

BILLING CODE 4310-33-M